DEPARTMENT OF AGRICULTURE

Forest Service

Notice of a Meeting of the Northeast Oregon Forests Resource Advisory Committee (RAC)

AGENCY: Forest Service, USDA.

ACTION: Notice of meeting.

SUMMARY: Pursuant to the authorities in the Federal Advisory Committees Act (Pub. L. 92-463), the Northeast Oregon Forests Resource Advisory Committee (RAC) will meet on May 9, 2014 in La Grande, Oregon. The purpose of the meeting is to meet as a Committee to discuss selection of Title II projects under Public Law 110-343, H.R. 1424, the Reauthorization of the Secure Rural Schools and Community Self-Determination Act of 2000 (16 U.S.C. 500 note; Pub. L. 106-393), also called “Payments to States” Act.

DATES: The meeting will be held on May 9, 2014, from 9:30 a.m. to 4:00 p.m.

ADDRESSES: The meeting will be held in the Blue Mountain Conference Center, 404 Twelfth Street, La Grande, Oregon.

FOR FURTHER INFORMATION CONTACT: Jeff Tomac, Designated Federal Official, USDA, Wallowa-Whitman National Forest, Whitman Ranger District, P.O. Box 907, Baker City, Oregon 97814; Telephone: (541) 523-1301.

SUPPLEMENTARY INFORMATION: This will be the fifth meeting of the Committee since reauthorization of Public Law 106-393. The meeting will focus on reviewing and recommending 2014 project proposals that meet the intent of the Act. The meeting is open to the public. A public input opportunity will be provided, and individuals will have the opportunity to address the committee at that time.

Dated: April 10, 2014.
Bill Gamble,
District Ranger.

[FR Doc. 2014-09533 Filed 4-25-14; 8:45 am]

BILLING CODE 3410-11-P